DEPARTMENT OF AGRICULTURE

Animal and Plant Health Inspection Service

[Docket No. APHIS-2017-0011]

Notice of Request for Reinstatement of an Information Collection; APHIS Student Outreach Program

AGENCY: Animal and Plant Health Inspection Service, USDA.

ACTION: Reinstatement of an information collection; comment request.

SUMMARY: In accordance with the Paperwork Reduction Act of 1995, this notice announces the Animal and Plant Health Inspection Service's intention to request the reinstatement of an information collection associated with the Animal and Plant Health Inspection Service's Student Outreach Program.

DATES: We will consider all comments that we receive on or before May 12, 2017.

ADDRESSES: You may submit comments by either of the following methods:

• Federal eRulemaking Portal: Go to http://www.regulations.gov/#!docketDetail;D=APHIS-2017-0011.

• Postal Mail/Commercial Delivery: Send your comment to Docket No. APHIS-2017-0011, Regulatory Analysis and Development, PPD, APHIS, Station 3A-03.8, 4700 River Road, Unit 118, Riverdale, MD 20737-1238.

Supporting documents and any comments we receive on this docket may be viewed at http://www.regulations.gov/#!docketDetail;D=APHIS-2017-0011 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on documents associated with the APHIS Student Outreach Program, contact Ms. Tammy Lowry, AgDiscovery Program Manager, Office of Civil Rights, Diversity, and Inclusion, APHIS, 4700 River Road, Unit 92, Riverdale, MD 20737; (301) 851-4181. For copies of more detailed information on the information collection, contact Ms. Kimberly Hardy, APHIS' Information Collection Coordinator, at (301) 851-2483.

SUPPLEMENTARY INFORMATION:

Title: APHIS Student Outreach Program.

OMB Control Number: 0579-0362.

Type of Request: Reinstatement of an information collection.

Abstract: The Animal and Plant Health Inspection Service's (APHIS') Student Outreach Program is designed to help students learn about careers in animal science, veterinary medicine, plant pathology, and agribusiness. The program allows participants to live on a college campus and learn about agricultural science and agribusiness from university professors, practicing veterinarians, and professionals working for the U.S. Government.

The Student Outreach Program is designed to enrich students' lives while they are still in their formative years. APHIS' investment in the Student Outreach Program not only exposes students to careers in APHIS, it also gives APHIS' employees the opportunity to meet and invest in APHIS' future workforce. Students chosen to participate in the Student Outreach Program will gain experience through hands-on labs, workshops, and field trips. Students will also participate in character and team building activities and diversity workshops. Two programs currently in the Student Outreach Program are AgDiscovery and Safeguarding Natural Heritage Program: Strengthening Navajo Youth Connections to the Land.

To participate in these programs, students and their parents must submit essays, letters of recommendation, and application packages. These submissions are reviewed and rated by officials to select the participants. In addition, cooperative agreements are used to facilitate the partnerships between APHIS and the participating universities to carry out these programs.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 5.62 hours per response.

Respondents: Individuals and public and private universities.

Estimated annual number of respondents: 1,126.

Estimated annual number of responses per respondent: 1.

Estimated annual number of responses: 1,126.

Estimated total annual burden on respondents: 6,330 hours. (Due to averaging, the total annual burden hours may not equal the product of the annual number of responses multiplied by the reporting burden per response.)

All responses to this notice will be summarized and included in the request for OMB approval. All comments will also become a matter of public record.

Done in Washington, DC, this 8th day of March 2017.
Michael C. Gregoire,
Acting Administrator, Animal and Plant Health Inspection Service.

[FR Doc. 2017-04876 Filed 3-10-17; 8:45 am]

BILLING CODE 3410-34-P